DEPARTMENT OF THE INTERIOR

Fish and Wildlife Service

Notice of Availability for the Renewal of an Expired Section 10(a)(1)(B) Permit for Incidental Take of the Golden-Cheeked Warbler in Travis County, TX (Lake)

SUMMARY: On February 26, 1999, the U.S. Fish and Wildlife Service (Service) issued a section 10(a)(1)(B) permit, pursuant to Section 10(a) of the Endangered Species Act (Act), for incidental take of the golden-cheeked warbler (GCW) (Dendroica chrysoparia) to Mark and Brenda Hogan. This permit was subsequently transferred to Ralph Lake, Jr. on January 12, 2001. The permit (TE-005497) was for a period of five years and expired on February 26, 2004. The requested permit renewal by Ralph Lake will extend the permit expiration by five years from the date the permit is reissued.

DATES: To ensure consideration, written comments must be received on or before January 18, 2006.

ADDRESSES: Persons wishing to review the request for extension, former incidental take permit, or other related documents may obtain a copy by written or telephone request to Scott Rowin, U.S. Fish and Wildlife Service, 10711 Burnet Road, Suite 200, Austin, Texas 78758, (512/490-0057 ext. 224). Documents will be available for public inspection by written request, or by appointment only, during normal business hours (8 a.m. to 4:30 p.m.) at the Fish and Wildlife Service Austin Office. Comments concerning the request for renewal should be submitted in writing to the Field Supervisor at the above address. Please refer to permit number TE-005497-1 when submitting comments.

FOR FURTHER INFORMATION CONTACT: Scott Rowin at the U.S. Fish and Wildlife Service Austin Office, 10711 Burnet Road, Suite 200, Austin, Texas 78758 (512/490-0057 ext. 224).

SUPPLEMENTARY INFORMATION: Section 9 of the Act prohibits the “taking” of endangered species such as the GCW. However, the Service, under limited circumstances, may issue permits to take endangered wildlife species incidental to, and not the purpose of, otherwise lawful activities. Regulations governing permits for endangered species are at 50 CFR 17.22. This notice is provided pursuant to Section 10(c) of the Act and National Environmental Policy Act regulations (40 CFR 1506.6).

Applicant: Ralph Lake Jr. plans to construct a single family residence (SFR) on his 10-acre lot located adjacent to City Park Road in Austin, Travis County, Texas. The construction of a SFR on approximately one acre of the 10-acre lot will eliminate less than one acre of GCW habitat and indirectly impact less than four additional acres of habitat. The original permit included, and the Applicant continues to propose to compensate for incidental take of the GCW by providing $1,500 to the Balcones Canyonlands Preserve, and placing a perpetual conservation easement on the remaining approximately nine acres to the Balcones Canyonlands Preserve. Since this property is located within the acquisition boundaries of the Balcones Canyonlands Preserve, it will add additional acreage to the preserve. The Applicant has agreed to follow all of the existing permit terms and conditions. If renewed, all of the permit terms and conditions will remain the same, and no additional take will be authorized.

Larry G. Bell,
Acting Regional Director, Region 2, Albuquerque, New Mexico.

[FR Doc. E5-7492 Filed 12-16-05; 8:45 am]

BILLING CODE 4510-55-P